DEPARTMENT OF THE INTERIOR

Bureau of Land Management

[LLAK-963000-L1410000-FQ0000; F-025943]

Public Land Order No. 7763; Partial Revocation of Public Land Order No. 3708; Alaska

AGENCY: Bureau of Land Management, Interior.

ACTION: Public Land Order.

SUMMARY: This order revokes a Public Land Order, as modified and extended, insofar as it affects approximately 32 acres of public land withdrawn from all forms of appropriation under the public land laws, including the mining laws, for the protection of the Gilmore Satellite Tracking Station at Gilmore Creek northeast of Fairbanks, Alaska. The land is no longer needed for the purpose for which it was withdrawn.

DATES: Effective Date: April 26, 2011.

FOR FURTHER INFORMATION CONTACT: Robert L. Lloyd, Bureau of Land Management, Alaska State Office, 222 West Seventh Avenue, #13, Anchorage, Alaska 99513; 907-271-4682.

SUPPLEMENTARY INFORMATION: The National Oceanic and Atmospheric Administration has determined that an approximately 32-acre parcel on the east boundary of the withdrawal created by Public Land Order No. 3708 is excess to its needs and requested a partial revocation of the withdrawal. Upon revocation, the State of Alaska selection applications made under the Alaska Statehood Act and the Alaska National Interest Lands Conservation Act become effective without further action by the State, if such land is otherwise available. Lands selected by, but not conveyed to, the State are subject to the terms and conditions of Public Land Order No. 5186 (37 FR 5589 (1972)), as amended, and any other withdrawal, application, or segregation of record. Any significant restriction on subsistence uses is unavoidable because the land is required to be conveyed to the State of Alaska under Section 810(c) of the Alaska National Interest Lands Conservation Act.

Order

By virtue of the authority vested in the Secretary of the Interior by Section 204 of the Federal Land Policy and Management Act of 1976, 43 U.S.C. 1714, it is ordered as follows:

1. Public Land Order No. 3708 (30 FR 8753 (1965)), as modified by Public Land Order No. 6709 (54 FR 6919 (1989)), partially revoked by Public Land Order No. 7682 (72 FR 71940 (2007)), and extended by Public Land Order No. 7710 (73 FR 35708 (2008)), which withdrew public land from all forms of appropriation under the public land laws, including the mining laws, but not from leasing under the mineral leasing laws, is hereby revoked insofar as it affects the following described land:

Fairbanks Meridian, Alaska

T. 2 N., R. 2 E.,

Sec. 17, commencing at the Northeast corner of said NW¼ of sec. 17 marked by a Bureau of Land Management brass-capped monument and being the True Point of Beginning; Thence South 00° 10′ 51″ East, along the East line of said NW¼ a distance of 1,765.00 feet to a point; Thence North 42° 42′ 29″ West, a distance of 1,952.25 feet to a point; Thence North 00° 11′ 42″ West, 330.00 feet more or less to a point on the north boundary of said NW¼, sec. 17 to a point marked by a Bureau of Land Management brass capped monument; Thence North 89° 58′ 51″ East, along said north boundary a distance of 1,319.69 feet to the point of beginning.

The area described contains 31.73 acres, more or less, near Fairbanks.

2. The State of Alaska selection applications made under Section 6(a) of the Alaska Statehood Act of July 7, 1958, 48 U.S.C. note prec. 21, and under Section 906(e) of the Alaska National Interest Lands Conservation Act, 43 U.S.C. 1635(e), become effective without further action by the State upon publication of this Public Land Order in the Federal Register, if such land is otherwise available. Lands selected by, but not conveyed to the State will be subject to Public Land Order No. 5186 (37 FR 5589), as amended, and any other withdrawal, application, or segregation of record.

Dated: April 15, 2011.
Wilma A. Lewis,
Assistant Secretary—Land and Minerals Management.

[FR Doc. 2011-10014 Filed 4-25-11; 8:45 am]

BILLING CODE 4310-JA-P